DEPARTMENT OF COMMERCE

International Trade Administration

[A-351-824, A-570-828, A-823-805]

Silicomanganese From Brazil, the People's Republic of China, and Ukraine: Final Results of the Expedited Third Sunset Reviews of the Antidumping Duty Orders

AGENCY: Import Administration, International Trade Administration, Department of Commerce.

SUMMARY: On August 1, 2011, the Department of Commerce (“Department”) initiated the third sunset reviews of the antidumping duty orders on silicomanganese from Brazil, the People's Republic of China (“PRC”), and Ukraine ¹ pursuant to section 751(c) of the Tariff Act of 1930, as amended (“Act”). The Department received a notice of intent to participate in all three reviews from the domestic interested party, Eramet Marietta, Inc. (“Eramet”), within the time specified in 19 CFR 351.218(d)(1)(i).² On August 31, 2011, the Department received substantive responses from Eramet. Based on the receipt of the substantive responses filed by the domestic interested party within the 30-day deadline as specified by 19 CFR 351.218(d)(3)(i) and the lack of response from any respondent interested party, the Department conducted expedited sunset reviews of the antidumping duty orders pursuant to section 751(c)(3)(B) of the Act and 19 CFR 351.218(e)(1)(ii)(C)(2). As a result of these sunset reviews, the Department finds that revocation of the antidumping duty orders would likely lead to continuation or recurrence of dumping, at the levels indicated in the “Final Results of Sunset Reviews” section of this notice.

¹ See Notice of Antidumping Duty Order: Silicomanganese From Brazil, 59 FR 66003 (December 22, 1994), Notice of Antidumping Duty Order: Silicomanganese From the People's Republic of China (PRC), 59 FR 66003 (December 22, 1994), and Suspension Agreement on Silicomanganese From Ukraine; Termination of Suspension Agreement and Notice of Antidumping Duty Order, 66 FR 43838 (August 21, 2001).

² On August 19, 2011, the Department received a notice of intent to participate from Felman Production Inc. (“Felman”), a producer of the domestic like product. On August 22, 2011, Felman requested an extension of the deadline to submit its notice of intent to participate, as the deadline for domestic interested parties to submit notices of intent to participate in the sunset reviews was August 16, 2011, pursuant to 19 CFR 351.218(d)(l)(i) (“the deadline for filing a `Notice of Intent' to participate by domestic interested parties in a sunset review is `no later than 15 days after the date of publication of the initiation notice.' ”). In light of the compressed timelines for conducting the sunset review under section 751(c) of the Act, and 19 CFR 351.218(d), the Department denied Felman's request for an extension.

DATES: Effective Date: November 29, 2011.

FOR FURTHER INFORMATION CONTACT: Erin Begnal; AD/CVD Operations, Import Administration, International Trade Administration, U.S. Department of Commerce, 14th Street and Constitution Avenue NW, Washington, DC 20230; telephone: (202) 482-1442.

SUPPLEMENTARY INFORMATION:

Background

On August 1, 2011, the Department initiated sunset reviews of the orders on silicomanganese from Brazil, the PRC, and Ukraine pursuant to section 751(c) of the Act. See Initiation of Five-year (“Sunset”) Review, 76 FR 45778 (August 1, 2011). On August 31, 2011, the Department received substantive responses from Eramet, pursuant to 19 CFR 351.218(d)(3)(i). In accordance with 19 CFR 351.218(d)(1)(ii)(A), Eramet claimed interested party status under section 771(9)(C) of the Act as a producer of the domestic like product. In its substantive responses, Eramet indicated that Elkem Metals Company (“Elkem”) was the petitioner in the original investigation but that since Eramet purchased Elkem's silicomanganese operations in 1999, it has participated actively in all administrative reviews and sunset reviews. The Department did not receive a substantive response from any respondent interested party in these sunset reviews. As a result, pursuant to section 751(c)(3)(B) of the Act and 19 CFR 351.218(e)(1)(ii)(C)(2), the Department conducted expedited sunset reviews of the antidumping duty orders.

Scope of the Orders

The merchandise covered by the orders is silicomanganese. Silicomanganese, which is sometimes called ferrosilicon manganese, is a ferroalloy composed principally of manganese, silicon and iron, and normally contains much smaller proportions of minor elements, such as carbon, phosphorus, and sulfur. Silicomanganese generally contains by weight not less than 4 percent iron, more than 30 percent manganese, more than 8 percent silicon, and not more than 3 percent phosphorous. All compositions, forms, and sizes of silicomanganese are included within the scope of the order, including silicomanganese slag, fines, and briquettes. Silicomanganese is used primarily in steel production as a source of both silicon and manganese.

Silicomanganese is currently classifiable under subheading 7202.30.0000 of the Harmonized Tariff Schedule of the United States (“HTSUS”). Some silicomanganese may also currently be classifiable under HTSUS subheading 7202.99.5040. The orders cover all silicomanganese, regardless of its tariff classification. Although the HTSUS subheadings are provided for convenience and customs purposes, the written description of the orders remain dispositive.

Analysis of Comments Received

A complete discussion of all issues raised in these sunset reviews is addressed in the accompanying Issues and Decision Memorandum (“I&D Memo”), which is hereby adopted by this notice. See the Department's memorandum entitled, “Issues and Decision Memorandum for the Final Results in the Expedited Sunset Review of the Antidumping Duty Order on Silicomanganese from Brazil, the People's Republic of China, and Ukraine” concurrently dated with this notice. The issues discussed in the accompanying I&D Memo include the likelihood of continuation or recurrence of dumping and the magnitude of the dumping margins likely to prevail if the antidumping orders were revoked. Parties can find a complete discussion of all issues raised in this full sunset review and the corresponding recommendation in this public memorandum which is on file electronically via Import Administration's Antidumping and Countervailing Duty Centralized Electronic Services System (“IA ACCESS”). Access to IA ACCESS is available in the Central Records Unit room 7046 of the main Commerce building. In addition, a complete version of the Decision Memorandum can be accessed directly on the Web at http://ia.ita.doc.gov/frn. The signed Decision Memorandum and the electronic versions of the Decision Memorandum are identical in content.

Final Results of Sunset Reviews

The Department determines that revocation of the antidumping duty orders on silicomanganese from Brazil, the PRC, and Ukraine would likely lead to continuation or recurrence of dumping. The Department also determines that the dumping margins likely to prevail if the orders were revoked are as follows:

Manufacturers/Exporters/Producers Weighted-Average Margin
[Percent]
Brazil
RDM/CPFL | 64.93
All Others | 17.60
The PRC
All Manufacturers/Producers/Exporters | 150.00
Ukraine
All Manufacturers/Producers/Exporters | 163.00

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: November 22, 2011.
Paul Piquado,
Assistant Secretary for Import Administration.

[FR Doc. 2011-30767 Filed 11-28-11; 8:45 am]

BILLING CODE 3510-DS-P